DEPARTMENT OF THE INTERIOR

Fish and Wildlife Service

Notice of Meetings of the Klamath Fishery Management Council

AGENCY: Fish and Wildlife Service, Interior.

ACTION: Notice of meetings.

SUMMARY: Pursuant to section 10(a)(2) of the Federal Advisory Committee Act (5 U.S.C. App. I), this notice announces three meetings of the Klamath Fishery Management Council, established under the authority of the Klamath River Basin Fishery Resources Restoration Act (16 U.S.C. 460ss et seq.). All meetings are open to the public. The Klamath Fishery Management Council makes recommendations to agencies that regulate harvest of anadromous fish in the Klamath River Basin. The objectives of these meetings are to hear technical reports, to discuss and develop Klamath fall Chinook salmon harvest management options for the 2005 season, and to make recommendations to the Pacific Fishery Management Council and other Fishery Management agencies.

DATES: The first meeting will be from 8:30 a.m. to 5 p.m. on February 23, 2005 and 8 a.m. to 5 p.m. on February 24, 2005. The second meeting will be from 3 p.m. to 7 p.m. on Sunday, March 6, 2005. At the March 6, 2005, meeting the Klamath Fishery Management Council may schedule short follow-up meetings to be held between March 7-11, 2005 at the same location. The third meeting will be from 3 p.m. to 7 p.m. on Sunday, April 3, 2005. At the April 3, 2005, meeting the Klamath Fishery Management Council may schedule short follow-up meetings to be held between April 4-8, 2005.

ADDRESSES: The February 23-24, 2005, meeting will be held at the Red Lion Hotel, 1929 Fourth Street, Eureka, California. The March 6-11, 2005, meeting will be held at the Doubletree Hotel Sacramento, 2001 Point West Way, Sacramento, California. The April 3-8, 2005 meeting will be held at the Sheraton Tacoma Hotel, 1320 Broadway Plaza, Tacoma, Washington. The March, 2005, meeting in Sacramento, California and the April, 2005, meeting in Tacoma, Washington are held concurrent with the meetings of the Pacific Fishery Management Council.

FOR FURTHER INFORMATION CONTACT: Phil Detrich, Field Supervisor, U.S. Fish and Wildlife Service, 1829 South Oregon Street, Yreka, California 96097, telephone (530) 842-5763.

SUPPLEMENTARY INFORMATION: For background information on the Klamath Fishery Management Council, please refer to the notice of their initial meeting that appeared in the Federal Register on July 8, 1987 (52 FR 25639).

Dated: November 10, 2004.
Michael M. Long,
Manager, California/Nevada Operations Office, Sacramento, CA.

[FR Doc. 04-26186 Filed 11-24-04; 8:45 am]

BILLING CODE 4310-55-P